DEPARTMENT OF HEALTH AND HUMAN SERVICES

Food and Drug Administration

[Docket No. FDA-2007-M-0467] (formerly Docket No. 2007M-0408), [Docket No. FDA-2007-M-0481] (formerly Docket No. 2007M-0467), [Docket No. FDA-2007-M-0480] (formerly Docket No. 2007M-0409), [Docket No. FDA-2007-M-0472] (formerly Docket No. 2007M-0413), [Docket No. FDA-2007-M-0468] (formerly Docket No. 2007M-0446), [Docket No. FDA-2007-M-0494] (formerly Docket No. 2007M-0380), [Docket No. FDA-2007-M-0493] (formerly Docket No. 2007M-0411), [Docket No. FDA-2007-M-0492] (formerly Docket No. 2007M-0410), [Docket No. FDA-2007-M-0490] (formerly Docket No. 2007M-0415), [Docket No. FDA-2007-M-0491] (formerly Docket No. 2007M-0447]

Medical Devices; Availability of Safety and Effectiveness Summaries for Premarket Approval Applications

AGENCY: Food and Drug Administration, HHS.

ACTION: Notice.

SUMMARY: The Food and Drug Administration (FDA) is publishing a list of premarket approval applications (PMAs) that have been approved. This list is intended to inform the public of the availability of safety and effectiveness summaries of approved PMAs through the Internet and the agency's Division of Dockets Management.

ADDRESSES: Submit written requests for copies of summaries of safety and effectiveness data to the Division of Dockets Management (HFA-305), Food and Drug Administration, 5630 Fishers Lane, rm. 1061, Rockville, MD 20852. Please cite the appropriate docket number as listed in Table 1 of this document when submitting a written request. See the SUPPLEMENTARY INFORMATION section for electronic access to the summaries of safety and effectiveness.

FOR FURTHER INFORMATION CONTACT: Samie Allen, Center for Devices and Radiological Health (HFZ-402), Food and Drug Administration, 9200 Corporate Blvd., Rockville, MD 20850, 240-276-4013.

SUPPLEMENTARY INFORMATION:

I. Background

In the Federal Register of January 30, 1998 (63 FR 4571), FDA published a final rule that revised 21 CFR 814.44(d) and 814.45(d) to discontinue individual publication of PMA approvals and denials in the Federal Register. Instead, the agency now posts this information on the Internet on FDA's home page at http://www.fda.gov. FDA believes that this procedure expedites public notification of these actions because announcements can be placed on the Internet more quickly than they can be published in the Federal Register, and FDA believes that the Internet is accessible to more people than the Federal Register.

In accordance with section 515(d)(4) and (e)(2) of the Federal Food, Drug, and Cosmetic Act (the act) (21 U.S.C. 360e(d)(4) and (e)(2)), notification of an order approving, denying, or withdrawing approval of a PMA will continue to include a notice of opportunity to request review of the order under section 515(g) of the act. The 30-day period for requesting reconsideration of an FDA action under § 10.33(b) (21 CFR 10.33(b)) for notices announcing approval of a PMA begins on the day the notice is placed on the Internet. Section 10.33(b) provides that FDA may, for good cause, extend this 30-day period. Reconsideration of a denial or withdrawal of approval of a PMA may be sought only by the applicant; in these cases, the 30-day period will begin when the applicant is notified by FDA in writing of its decision.

The regulations provide that FDA publish a quarterly list of available safety and effectiveness summaries of PMA approvals and denials that were announced during that quarter. The following is a list of approved PMAs for which summaries of safety and effectiveness were placed on the Internet from October 1, 2007, through December 31, 2007. There were no denial actions during this period. The list provides the manufacturer's name, the product's generic name or the trade name, and the approval date.

Table 1.—List of Safety and Effectiveness Summaries for Approved PMAs Made Available From October 1, 2007, through December 31, 2007.
PMA No./Docket No. | Applicant | TRADE NAME | Approval Date
P000009 (S4)/2007M-0408 | Biotronik, Inc. | TACHOS DR ATRIAL TX IMPLANTABLE CARDIOVERTER DEFIBRILLATOR ICD SYSTEM | September 9, 2002
P060031/2007M-0467 | Bio-Rad Laboratories | BIO-RAD MONOLISA ANTI-HBC EIA | April 27, 2007
P060005/2007M-0409 | Siemens Medical Solutions Diagnostics | IMMULITE/IMMULITE 1000 & IMMULITE 2000 FREE PSA ASSAYS | May 11, 2007
P060017/2007M-0413 | Veridex, LLC | GENESEARCH BREAST LYMPH NODE (BLN) ASSAY | July 16, 2007
P040040/2007M-0446 | AGA Medical Corp. | AMPLATZER MUSCULAR VSD | September 7, 2007
P070009/2007M-0380 | Obtech Medical GMBH | REALIZE ADJUSTABLE GASTRIC BAND MODEL 2200-X | September 28, 2007
P070012/2007M-0411 | Medtronic Vascular | EXPONENT SELF-EXPANDING CAROTIC STENT SYSTEM WITH OVER THE WIRE OR RAPID EXHANGE DELIVERY SYSTEM | October 23, 2007
P060038/2007M-0410 | Carbomedics, Inc. | MITROFLOW AORTIC PERICARDIAL HEART VALVE | October 23, 2007
H990002/2007M-0415 | Genzyme Biosurgery | EPICEL (CULTURED EPIDERMAL AUTOGRAFTS) | October 25, 2007
P060035/2007M-0447 | Abbott Laboratories | ARCHITECT CORE-M REAGENT KIT/CALIBRATORS/CONTROLS | November 6, 2007

II. Electronic Access

Persons with access to the Internet may obtain the documents at http://www.fda.gov/cdrh/pmapage.html.

Dated: May 16, 2008.
Daniel G. Schultz,
Director, Center for Devices and Radiological Health.

[FR Doc. E8-12012 Filed 5-28-08; 8:45 am]

BILLING CODE 4160-01-S